DEPARTMENT OF THE INTERIOR

National Park Service

National Register of Historic Places; Notification of Pending Nominations

Nominations for the following properties being considered for listing in the National Register were received by the National Park Service before March 24, 2001. Pursuant to section 60.13 of 36 CFR part 60 written comments concerning the significance of these properties under the National Register criteria for evaluation may be forwarded to the National Register, National Park Service, 1849 C St. NW., NC400, Washington, DC 20240. Written comments should be submitted by April 24, 2001.

Patrick W. Andrus,
Acting Keeper of the National Register of Historic Places.

Connecticut

Fairfield County

Christ Episcopal Church and Tashua Burial Ground, 5170 Madison Ave., Trumbull, 01000401

Ely, Rev. John, House, 54 Milwaukee Ave., Bethel, 01000400

New Haven County

Miller, Henry F., House, 30 Derby Ave., Orange, 01000399

Indiana

Montgomery County

Culver Union Hospital, 306 Binford St., Crawfordsville, 01000402

Parke County

Lieber, Richard, Log Cabin, Turkey Run State Park, Marshall, 01000403

Randolph County

Winchester Courthouse Square Historic District, Roughly bounded by North St., and the alleys located to the E of Main St., Winchester, 01000405

St. Joseph County

Evergreen Hill, 59449 Keria Trail, South Bend, 01000410

Wayne County

Dennis, David Worth, House, 610 W. Main St., Richmond, 01000404

Kansas

Doniphan County

St. Mary's Catholic Church, 446 KS 137, Purcell, 01000413

Nemaha County

Marion Hall, Jct. of Main and First St., Baileyville, 01000411

Shawnee County

Topeka Cemetery—Mausoleum Row, 1601 E. 10th St., Topeka, 01000409

Sherman County

Kuhrt Ranch, 2725 KS 77, Edson, 01000408

Wallace County

Clark—Robidoux House, 4th St., Wallace, 01000406

Maryland

Baltimore Independent city

Coca-Cola Baltimore Branch Factory, 1215 E. Fort Ave., Baltimore (Independent City), 01000407

Michigan

Macomb County

Erin—Warren Fractional District No. 2 Schoolhouse, 15500 Nine Mile Rd., Eastpointe, 01000412

New York

Rensselaer County

Fox, Albert R., House, 2801 NY 66, Sand Lake, 01000430

North Carolina

Avery County

Weaving Room of Crossnore School, 205 Johnson Ln., Crossnore, 01000417

Caldwell County

Mary's Grove, 2121 Harper Ave., SW, Lenoir, 01000418

Durham County

Watts—Hillandale Historic District, (Durham MRA) Roughly bounded by Durham Waterworks, Wilson St., Sprunt Ave., Broad St., Englewood Ave., and Hillsborough Rd., Durham, 01000427

Haywood County

Shackford Hall, 80 Shackford Hall Rd., Lake Junaluska, 01000419

Mecklenburg County

Crane Company Building (Former), 1307 W. Morehead St., Charlotte, 01000423

Tompkins, Daniel A., Company Machine Shop, Former, 1900 South Boulevard, Charlotte, 01000422

Wake County

Cannady—Brogden Farm, Address Restricted, Creedmoor, 01000424

Cary Historic District, (Wake County MPS) Roughly along Dry Ave., S. Academy St., and Park St., Cary, 01000425

New Hill Historic District, Roughly 0.5 S of jct. of Old US 1 and NC 1127, and 2 mi. W of jct. with Old US 1, New Hill, 01000426

Panther Branch School, (Wake County MPS) NC 2727, 0.5 mi. S of NC 183, Raleigh, 01000421

Riley Hill School, NC 2320, 0.2 mi. E of NC2318, Wendell, 01000415

St. Matthews School, (Wake County MPS) US 401, 0.5 mi NE of NC 2213, Raleigh, 01000416

Yancey County

Buck, David M., House, NC 1395, 1.1 mi. SW of jct with NC 1401, Bald Mountain, 01000420

North Dakota

Mercer County

Knife River Bridge near Stanton, (Historic Roadway Bridges of North Dakota MPS) Cty. Rd., 4 mi. W and 1 mi. N of Stanton, Stanton, 01000428

South Dakota

Sully County

Sully County Courthouse, (County Courthouses of South Dakota MPS) Main and Ash Sts., Onida, 01000414

Tennessee

Hardeman County

Avent, James Monroe, House, 220 Railroad Ave., Hickory Valley, 01000436

Texas

El Paso County

El Paso US Courthouse, 511 W. San Antonio Ave., El Paso, 01000434

Galveston County

Galveston US Post Office, Custom House and Courthouse, 25th St. and F Ave., Galveston, 01000438

Harrison County

Marshall US Post Office, 100 E. Houston St., Marshall, 01000435

Smith County

Tyler US Post Office and Courthouse, 211 W. Ferguson St., Tyler, 01000433

Tarrant County

Fort Worth US Courthouse, 501 W. 10th St., Fort Worth, 01000437

Travis County

Austin US Courthouse, 200 West Eighth St., Austin, 01000432

Washington

Pierce County

Nisqually Power Substation, 2416 S. C St., Tacoma, 01000429

Walla Walla County

Waitsburg High School, 421 Coopei St., Waitsburg, 01000431

[FR Doc. 01-8683 Filed 4-6-01; 8:45 am]

BILLING CODE 4310-70-P